GENERAL SERVICES ADMINISTRATION

[Notice-MR-2020-01; Docket No. 2020-0002; Sequence No. 16]

Modernizing Services for Regulation Management

AGENCY: Office of Regulation Management, Office of Government-wide Policy, General Services Administration (GSA).

ACTION: Notice of Public Meeting and request for comment.

SUMMARY: The General Services Administration's (GSA) Office of Regulation Management within the Office of Government-wide Policy is announcing amendments to notice MR-2019-01, dated December 30, 2019. The public meeting that was originally announced for March 25, 2020, has been rescheduled to April 30, 2020. The meeting will be held via web conference. The comment period has also been extended from April 30, 2020, to June 3, 2020. GSA is seeking public comment on any matters related to the modernization of Electronic Rulemaking Management. Background information on specific topics will be provided in electronic format through the regulations.gov docketing system to help inform the public on known issues around which to focus their input. Comments will be accepted electronically.

DATES: The public meeting originally announced for March 25, 2020 will be conducted on Thursday, April 30, 2020. The meeting will be held from 2 p.m. to 4 p.m. Eastern Time (ET).

Comments related to any aspect of modernization of Electronic Rulemaking Management must be submitted no later than Wednesday, June 3, 2020. This represents an extension of the deadline of April 30, 2020 originally announced in notice published in the Federal Register at 84 FR 72364.

ADDRESSES: The public meeting will no longer take place at GSA's Central Office at 1800 F Street NW, Washington, DC 20006. The meeting will be held solely through a web conference with instructions provided during registration.

Pre-register to attend the public meeting at https://regulatorydata.eventbrite.com.

GSA is no longer accepting proposals for meeting panelists at eRulemaking@gsa.gov. The panelists have been selected.

FOR FURTHER INFORMATION CONTACT: For further information, please contact eRulemaking@gsa.gov.

SUPPLEMENTARY INFORMATION:

I. Background on Electronic Rulemaking Management

OGP's Office of Regulation Management manages two programs that deliver shared regulatory IT services. The eRulemaking Program Management Office manages regulations.gov and the Federal Docket Management System (FDMS). The Regulatory Information Service Center (RISC) manages RegInfo.gov and the RISC/OIRA Consolidated Information System (ROCIS).GSA's strategy for Rulemaking Modernization is three-fold:

1. Better integrate data and information technology among Federal regulatory information systems to support data analytics, both for rulemakers and members of the public.

2. Apply innovative approaches to promote public access, accountability, and transparency.

3. Reduce duplication and increase efficiency across the Federal rulemaking landscape through improved processes and technologies.

Docket No. GSA-2020-0002; Sequence No. 16 at regulations.gov will contain background documents on various topics on the regulatory process within a docket.

You can discover more about the Office of Regulation Management and its regulatory work at: https://www.gsa.gov/policy-regulations/regulations/how-you-can-improve-regulations.

You can discover more about e-Rulemaking, including FDMS and www.Regulations.gov at: https://www.fdms.gov/fdms/public/aboutus and https://www.regulations.gov/aboutProgram.

You can discover more about the Regulatory Information Service Center at: https://www.gsa.gov/about-us/organization/office-of-governmentwide-policy/office-of-acquisition-policy/governmentwide-acq-policy/regulatory-information-service-center and https://www.reginfo.gov/public/.

II. Public Meetings

GSA will be conducting a virtual public meeting on April 30, 2020, from 2 p.m. to 4 p.m., ET. This is a rescheduled meeting originally announced in notice 84 FR-72364 for March 25, 2020. GSA has selected presenters on topics that relate to:

• General challenges and opportunities for analysis across multiple regulations, including use cases. For example, a single regulated entity may be subject to requirements from multiple overlapping or inconsistent regulations.

• How desirable is it to enhance public participation across the entire life cycle of a rulemaking, from law, to regulation, to U.S. Code? What are the benefits?

• What types of data analysis tools or reports would be useful for the public?

• What types of regulatory trends or information should be analyzed to benefit the regulatory process?

• What technologies or policies could assist with sharing of data or interoperability of regulatory management systems across the Federal government?

• What are the challenges and opportunities for third party service providers to use regulatory information alone or in combination with other data to deliver services or analysis?

• What technologies or policies could assist with increasing public access to data for or through third party applications?

Check for additional information regarding meeting logistics on regulations.gov, “Docket No. GSA-2020-0002; Sequence No. 16.” as dates approach. Updates will also be on the EventBrite registration page at https://regulatorydata.eventbrite.com. Questions may be directed to eRulemaking@gsa.gov.

Meeting Accommodations: A full transcript of the meeting will be made available on regulations.gov within two weeks.

Closed captioning is available during the meeting and will be automatically presented through your browser. Technical support will be available in the webinar chat room should anyone have difficulty.

III. Written Comments

To assist GSA in planning for the modernization of the Electronic Rulemaking Management process, GSA is inviting interested parties to submit written comments.

Instructions for submitting comments: The referenced electronic docket in regulations.gov is a collection of documents related to this request for comment. Interested members of the public may comment on any individual document, whether or not addressed in one of the public meetings. The public may also contribute scholarly articles or other information that is appropriate to the topic. The public may also comment on any matter relating to modernization of Electronic Rulemaking Management by commenting on the primary document for this notice, referenced in the docket as Notice-MR-2020-01.

From the home page of regulations.gov, search for “Docket No. GSA-2020-0002; Sequence No. 16.” Identify the specific document within the docket that you would like to comment on, select the link “Comment Now,” and follow the instructions provided at the screen. Attendance at this meeting is not required to provide comments. The public meeting is intended to supplement the background materials in the docket and provide additional insight into specific topics related to Electronic Regulation Management. Transcripts and any presentations from the meeting will be publicly posted to the docket within two weeks in order to enable the public to comment prior to Wednesday, June 3, 2020.

Those in attendance at the meeting will have an opportunity to ask questions or make comments through the chat feature in the web conferencing platform for the virtual public meeting, as time permits. However, the virtual public meeting is not a formal comment process. For formal consideration, all comments must be submitted to regulations.gov at the referenced docket. Comments may be submitted by June 3, 2020, on any topic related to Electronic Rulemaking Modernization.

GSA may publicly post all presentations submitted to the public meetings, all transcripts associated with the public meetings, and any comments received to the docket on regulations.gov without change. Read the regulations.gov notifications below regarding sharing of personally identifiable and/or business confidential information.

In general, GSA is seeking input on the business/mission needs of you or your organization as a participant or interested stakeholder in the rulemaking process. Specifics on proposed services or service improvements, including benefits and costs, would be helpful. Specific suggestions on service management, including performance measures and approaches for ongoing customer engagement would also be helpful.

Comments are also welcome on related technology services, including any specific recommendations for how technology can be applied to achieve specific business needs for regulatory management.

GSA also welcomes any references to existing research, processes, services, or technologies directly related to regulation management or related to functions that can be applied to regulation management.

Please note that comments on individually proposed rulemakings or other agency actions should be addressed to the specific agency and any dockets that they have created for that action. The role of GSA is that of a shared service provider for supporting public participation and government efficiencies in the regulatory process.

Tobias Q. Schroeder,
Director, eRulemaking Program Management Office,Office of Regulation Management, Office of Government-wide Policy, General Services Administration.

[FR Doc. 2020-07943 Filed 4-14-20; 8:45 am]

BILLING CODE 6820-EP-P